DEPARTMENT OF ENERGY

Federal Energy Regulatory Commission

[Project No. 6096-013]

O'Connell Energy Group, Mini-Watt Hydroelectric LLC; Notice of Transfer of Exemption

1. On February 18, 2022, as supplemented on February 23, 2022, O'Connell Energy Group, exemptee for the 495-Kilowatt New Home Dam Hydroelectric Project No. 6096, filed a letter notifying the Commission that the project was transferred from O'Connell Energy Group to Mini-Watt Hydroelectric LLC. The exemption from licensing was originally issued on December 28, 1984.¹ The project is located on the Millers River in Franklin County, Massachusetts. The transfer of an exemption does not require Commission approval.

¹ Mini-Watt Electric Company, 29 FERC ¶ 61,356 (1984). Subsequently, on November 16, 1994, the project was transferred to O'Connell Energy Group. (P-6096-003).

2. Mini-Watt Hydroelectric LLC is now the exemptee of the New Dam Hydroelectric Project No. 6096. All correspondence must be forwarded to: Justin D. Ahmann, Chief Operating Officer, 75 Somers Rd., Somers, MT 59932, Phone: 712-790-3145, Email: justin@apec-mt.com.

Dated: April 18, 2022.
Debbie-Anne A. Reese,
Deputy Secretary.

[FR Doc. 2022-08593 Filed 4-21-22; 8:45 am]

BILLING CODE 6717-01-P